DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act requires that public notice of this meeting be announced in the Federal Register.

DATES: Monday, January 22, 2018, 1:00 p.m.-5:00 p.m.; Tuesday, January 23, 2018; 9:00 a.m.-4:00 p.m.

ADDRESSES: Beach House Hotel, 1 South Forest Beach Drive, Hilton Head, SC 29928.

FOR FURTHER INFORMATION CONTACT: Susan Clizbe, Office of External Affairs, Department of Energy, Savannah River Operations Office, P.O. Box A, Aiken, SC 29802; Phone: (803) 952-8281.

SUPPLEMENTARY INFORMATION: Purpose of the Board: The purpose of the Board is to make recommendations to DOE-EM and site management in the areas of environmental restoration, waste management, and related activities.

Tentative Agenda

Monday, January 22, 2018

Opening, Chair Update, and Agenda Review

Agency Updates

Break

Administrative & Outreach Committee Update

Facilities Disposition & Site Remediation Committee Update

Nuclear Materials Committee Update

Strategic & Legacy Management Committee Update

Waste Management Committee Update

Draft Recommendation Discussion

Public Comments

Recess

Tuesday, January 23, 2018

Reconvene

Agenda Review

Presentations:

• Savannah River Ecology Laboratory

• Status of Liquid Waste Operations

Lunch Break

Presentations:

• Status of Nuclear Materials Operations

• Integrated Priority List

Break

Topics for Consideration:

• Facilities Disposition & Site Remediation

• Nuclear Materials

• Strategic & Legacy Management

• Waste Management

Public Comments

Voting:

• Committee Chair Election

• Close Recommendation

• Draft Recommendation

Adjourn

Public Participation: The EM SSAB, Savannah River Site, welcomes the attendance of the public at its advisory committee meetings and will make every effort to accommodate persons with physical disabilities or special needs. If you require special accommodations due to a disability, please contact Susan Clizbe at least seven days in advance of the meeting at the phone number listed above. Written statements may be filed with the Board either before or after the meeting. Individuals who wish to make oral statements pertaining to agenda items should contact Susan Clizbe's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Susan Clizbe at the address or phone number listed above. Minutes will also be available at the following website: http://cab.srs.gov/srs-cab.html.

Issued at Washington, DC, on December 27, 2017.
LaTanya R. Butler,
Deputy Committee Management Officer.

[FR Doc. 2018-00277 Filed 1-9-18; 8:45 am]

BILLING CODE 6450-01-P